DEPARTMENT OF ENERGY

Federal Energy Regulatory Commission

Notice of Effectiveness of Exempt Wholesale Generator and Foreign Utility Company Status

Mesteno Windpower, LLC | EG19-90-000
Kawailoa Solar, LLC | EG19-91-000
Seymour Hills Wind Project, LLC | EG19-92-000
Wilkinson Solar LLC | EG19-93-000
Oberon Solar IA, LLC | EG19-94-000
Whitetower Holdings UK Ltd | FC19-4-000

Take notice that during the month of June 2019, the status of the above-captioned entities as Exempt Wholesale Generators or Foreign Utility Companies became effective by operation of the Commission's regulations. 18 CFR 366.7(a) (2018).

Dated: July 16, 2019.
Nathaniel J. Davis, Sr.,
Deputy Secretary.

[FR Doc. 2019-15572 Filed 7-22-19; 8:45 am]

BILLING CODE 6717-01-P